DEPARTMENT OF DEFENSE

Department of the Air Force

Notice of Intent To Grant an Exclusive Patent License

AGENCY: Department of the Air Force, Department of Defense.

ACTION: Notice of intent.

SUMMARY: Pursuant to the Bayh-Dole Act and implementing regulations, the Department of the Air Force hereby gives notice of its intent to grant an exclusive patent license agreement to Palladium Labs, a C-Corporation, having a place of business at 126 Thomas Street NW, Washington, DC 20001.

DATES: Written objections must be filed no later than fifteen (15) calendar days after the date of publication of this Notice.

ADDRESSES: Submit written objections to Matthew O'Brien, RDOX, Technology Transfer Office, Directed Energy Directorate, 3550 Aberdeen Avenue, Kirtland AFB, New Mexico 87117-5776; Telephone: 505-846-5028; Email: matthew.obrien.27@us.af.mil. Include Docket No. PRS283 in the subject line of the message.

FOR FURTHER INFORMATION CONTACT: Shannon Carr, RDOX, Technology Transfer Office, Directed Energy Directorate, 3550 Aberdeen Avenue, Kirtland AFB, New Mexico 87117-5776; Telephone: 505-321-3542; Email: shannon.carr.3.ctr@us.af.mil.

SUPPLEMENTARY INFORMATION: The Department of the Air Force intends to grant the exclusive patent license agreement for the invention described in: U.S. 10,715,615, entitled “Dynamic Content Distribution System and Associated Methods,” issued 14 July 2020.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Adriane Paris,
Acting Air Force Federal Register Liaison Officer.

[FR Doc. 2021-16351 Filed 7-30-21; 8:45 am]

BILLING CODE 5001-10-P